DEPARTMENT OF COMMERCE

National Oceanic and Atmospheric Administration

[I.D. 012202B]

Proposed Information Collection; Comment Request; Highly Migratory Species Vessel Marking and Gear Marking

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before March 29, 2002.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Christopher Rogers at the National Marine Fisheries Service (NMFS) Highly Migratory Species Management Division, 1315 East West Highway, Silver Spring, MD 20910, or by e-mail at christopher.rogers@noaa.gov or phone at 301-713-2347.

SUPPLEMENTARY INFORMATION:

I. Abstract

Under regulations at 50 CFR 635.6 fishing vessels permitted for Atlantic Highly Migratory Species must display their official vessel numbers on their vessels to assist law enforcement in monitoring fishing and other activities. Flotation devices attached to certain fishing gear must also be marked with the vessel’s number to identify catch that is buoyed. This requirement is also necessary for law enforcement purposes.

II. Method of Collection

There is no form under this requirement. Official vessel numbers or permit numbers issued to vessel operators are marked on the vessel and on flotation gear.

III. Data

OMB Number: 0648-0373.

Form Number: None.

Type of Review: Regular submission.

Affected Public: Business or other for-profit organizations, individuals or households.

Estimated Number of Respondents: 8,051.

Estimated Time Per Response: 45 minutes to mark a vessel, 15 minutes to mark a float.

Estimated Total Annual Burden Hours: 7,176.

Estimated Total Annual Cost to Public: $161,020.

IV. Request for Comments

Comments are invited on: (a) Whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 17, 2002.
Madeleine Clayton,
Departmental Paperwork Clearance Officer, Office of the Chief Information Officer.

[FR Doc. 02-2003 Filed 1-25-02; 8:45 am]

BILLING CODE 3510-22-S